DEPARTMENT OF THE INTERIOR

Bureau of Land Management

[WY-100-08-1310-DB]

Notice of Rescheduled Meeting of the Pinedale Anticline Working Group

AGENCY: Bureau of Land Management, Interior.

ACTION: Notice of public meeting.

SUMMARY: In accordance with the Federal Land Policy and Management Act (1976) and the Federal Advisory Committee Act (1972), the U.S. Department of the Interior, Bureau of Land Management (BLM) Pinedale Anticline Working Group (PAWG) will meet in Pinedale, Wyoming. This meeting is open to the public.

DATES: The May 28, 2009 meeting has been rescheduled to coincide with the public comment period for an environmental assessment. The PAWG will meet the following date beginning at 1 p.m.: May 7, 2009.

ADDRESSES: The meeting will be held at the BLM Pinedale Field Office, 1625 West Pine Street, Pinedale, WY.

FOR FURTHER INFORMATION CONTACT: Shelley Gregory, PAWG Designated Federal Officer, Bureau of Land Management, Pinedale Field Office, 1625 West Pine Street., PO Box 768, Pinedale WY 82941; 307-367-5328; shelley_gregory@blm.gov.

SUPPLEMENTARY INFORMATION: On June 25, 2008, the Secretary of the Interior renewed the Charter for the PAWG which advises the BLM on the development and implementation of monitoring plans and adaptive management decisions as development of the Pinedale Anticline Natural Gas Field proceeds.

The agenda for this meeting will include discussions concerning task group recommendations and overall adaptive management implementation. Public comments will be heard at the commencement and prior to adjournment of each meeting.

Dated: March 27, 2009.
Chuck Otto,
Field Office Manager.

[FR Doc. E9-7387 Filed 4-1-09; 8:45 am]

BILLING CODE 4310-22-P